DEPARTMENT OF HOUSING AND URBAN DEVELOPMENT

[Docket No. FR-5382-N-11]

Notice of Proposed Information Collection for Public Comment: Study of the Low Income Housing Tax Credit (LIHTC) Program After 15 Years

AGENCY: Office of Policy Development and Research, HUD.

ACTION: Notice.

SUMMARY: The proposed information collection requirement described below will be submitted to the Office of Management and Budget (OMB) for review, as required by the Paperwork Reduction Act. The Department is soliciting public comments on the subject proposal.

DATES: Comment Due Date: July 12, 2010.

ADDRESSES: Interested persons are invited to submit comments regarding this proposal. Comments should refer to the proposal by name and should be sent to: Reports Liaison Officer, Office of Policy Development and Research, Department of Housing and Urban Development, 451 7th Street, SW., Room 8226, Washington, DC 20410.

FOR FURTHER INFORMATION CONTACT: Regina Gray, PhD, Department of Housing and Urban Development, 451 7th Street, SW., Washington, DC 20410; telephone (202) 402-2876 (this is not a toll-free number). Copies of the proposed data collection and other available documents may be obtained from Dr. Gray.

SUPPLEMENTARY INFORMATION: This Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, such as permitting electronic submission of responses.

Title of Proposal: Study of the Low-Income Housing Tax Credit (LIHTC) Program After 15 Years.

Description of the need for the information and proposed use: The Low-Income Housing Tax Credit (LIHTC), enacted in 1987, supports the production of rental housing to be occupied by low income renters, usually those with incomes less than 60 percent of area median income. LIHTC has become the federal government's largest program that subsidizes the development of affordable rental housing and has produced more than 1.8 million units.

HUD has overall responsibility for housing policy for low-income renters within the federal government and recognizes the significance of the LIHTC program. HUD's Office of Policy Development and Research has commissioned this study about what happened to LIHTC properties after the first 15 years, when the original use restrictions for properties that received tax credit allocations before 1990 expired, and when some tax credit properties funded after that date also were able to leave the program. The study represents an important opportunity for HUD to learn about the decisions owners and investors made with regard to LIHTC properties that reached the 15 year mark, whether properties no longer subject to LIHTC income and rent restrictions nonetheless continue to provide affordable housing for low-income renters, and whether properties still in the program are performing well financially. The answers to these questions are important for the million LIHTC units that will pass their 15 year mark over the next 10 years. The answers also will illuminate how use restrictions for subsidized rental housing work and how policy makers should think about them in the design of future programs.

A survey of LIHTC property owners is planned for the fall 2010 and is the subject of this notice. Owners play a key role in the maintenance and disposition of tax credit properties, making the final decisions on next steps with a property once it reaches the 15 year mark. The survey will collect data on LIHTC property owners' experience with the LIHTC program, gathering information that factored into property disposition decisions. Data will also be collected on whether projects were sold and whether projects continued as affordable rental housing.

Members of affected public: 40 randomly sampled LIHTC property owners.

Estimation of the total number of hours needed to prepare the information collection, including the number of respondents, frequency of response, and hours of response: The owner survey will take approximately 60 minutes per respondent to complete.

Respondents | Number of respondents | Number of responses per respondent | Average burden/response (hours) | Total burden hours
Telephone interview | 40 | 1 | 1 | 40

Status of the proposed information collection: Pending OMB approval.

Authority: Section 3506 of the Paperwork Reduction Act of 1995, 44 U.S.C. Chapter 35, as amended.

Dated: April 29, 2010.
Raphael W. Bostic,
Assistant Secretary for Policy Development and Research, R.

[FR Doc. 2010-11077 Filed 5-10-10; 8:45 am]

BILLING CODE 4210-67-P